DEPARTMENT OF THE INTERIOR

National Park Service

30-Day Notice of Submission to Office of Management and Budget; Opportunity for Public Comment

AGENCY: National Park Service, Department of the Interior.

ACTION: Notice and request for comments.

SUMMARY: Under provisions of the Paperwork Reduction Act of 1995 and 5 CFR part 1320, Reporting and Recordkeeping Requirements, the National Park Service (NPS) invites comments on an extension of a currently approved collection of information (OMB Control # 1024-0231).

DATES: Public comments on the proposed Information Collection Request (ICR) will be accepted for 30 days from the date of publication in the Federal Register.

ADDRESSES: You may submit comments directly to the Desk Officer for the Department of the Interior, (OMB 1024-0231), Office of Information and Regulatory Affairs, OMB, by fax at 202/395-6566, or by electronic mail at OIRA_DOCKET@omb.eop.gov. Please also send a copy of your comments to Ms. Jo A. Pendry, Concession Program Manager, National Park Service, 1849 C Street, NW. (2410), Washington, DC 20240, or electronically to jo_pendry@nps.gov.

FOR FURTHER INFORMATION CONTACT: Ms. Jo A. Pendry, phone: 202-513-7156, fax: 202-371-2090, or at the address above. You are entitled to a copy of the entire entire ICR package free-of-charge.

The National Park Service published the 60-day Federal Register notice to solicit comments on this proposed information collection on February 14, 2007, on page 7074-7075. There were no public comments received as a result of publishing in the Federal Register a 60-day Notice of Intention to Request Clearance of Information Collection for this survey.

SUPPLEMENTARY INFORMATION: Title: Concession Contract—36 CFR part 51.

Form Number(s): None.

OMB Control Number: 1024-0231.

Expiration Date of Approval: April 30, 2007.

Type of Request: Extension of a currently approved information collection.

Description of Need: The information is being collected to meet the requirements of Sections 403(7) and (8) of the NPS Concessions Management Improvement Act of 1998 (the Act), concerning the granting of a preferential right to renew a concession contract, Section 405 of the Act regarding the construction of capital improvements by concessioners, and Section 414 of the Act regarding recordkeeping requirements of concessioners. The information will be used by the agency in considering appeals concerning preferred offeror determinations, agency review and approval of construction projects and determinations with regard to the leasehold surrender interest value of such projects, and when necessary, agency review of a concessioner's books and records related to its activities under a concession contract.

Comments are invited on: (1) The practical utility of the information being gathered; (2) the accuracy of the agency's burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of Collection: Once.

Description of Respondents: NPS concessioners, and, in the case of appeals of preferred offeror determinations, offerors in response to concession prospectuses.

Total Annual Responses: 758.

Total Annual Burden Hours: 3,276.

Dated: April 23, 2007.
Leonard E. Stowe,
NPS, Information Collection Clearance Officer.

[FR Doc. 07-2089 Filed 4-26-07; 8:45 am]

BILLING CODE 4312-53-M